DEPARTMENT OF TRANSPORTATION

Federal Aviation Administration

Thirteenth RTCA SC-228 Focused Plenary

AGENCY: Federal Aviation Administration (FAA), U.S. Department of Transportation (DOT).

ACTION: Thirteenth RTCA SC-228 Focused Plenary.

SUMMARY: The FAA is issuing this notice to advise the public of a meeting of Thirteenth RTCA SC-228 Focused Plenary.

DATES: The meeting will be held December 15, 2016 01:00 p.m.-03:00 p.m.

ADDRESSES: The meeting will be held at: Virtual Plenary ONLY: Join at the following link: https://rtca.webex.com/rtca/j.php?MTID=mb1dbe3316d05f4fe854eff1b0986530b.

FOR FURTHER INFORMATION CONTACT: Al Secen at asecen@rtca.org or 202-330-0647, or The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirteenth RTCA SC-228 Focused Plenary. The agenda will include the following:

Thursday, December 15, 2016-1:00 p.m.-3:00 p.m.

1. Welcome/Introductions/Administrative Remarks/SC-228 Participation Guidelines

a. Reading of the Public Announcement by the DFO

b. Reading of the RTCA Proprietary References Policy

2. Agenda Overview

a. Adopt Meeting Minutes from Plenary #12

3. Determine approval of WG-1 DAA MOPS

a. DAA MOPS Document Approval

b. Air-to-Air Radar MOPS Document Approval

4. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 14, 2016.
Mohannad Dawoud,
Management & Program Analyst, Partnership Contracts Branch, ANG-A17 NextGen, Procurement Services Division, Federal Aviation Administration.

[FR Doc. 2016-27730 Filed 11-17-16; 8:45 am]

BILLING CODE 4910-13-P